INTERNATIONAL TRADE COMMISSION

[Investigations Nos. 731-TA-96 and 439-445 (Review)]

Industrial Nitrocellulose From Brazil, China, France, Germany, Japan, Korea, the United Kingdom, and Yugoslavia

Determinations

On the basis of the record ¹ developed in the subject five-year reviews, the United States International Trade Commission determines, pursuant to section 751(c) of the Tariff Act of 1930 (19 U.S.C. 1675(c)) (the Act), that revocation of the antidumping duty orders on industrial nitrocellulose from Brazil,² China, France, Germany, Japan, Korea,³ and the United Kingdom would be likely to lead to continuation or recurrence of material injury to an industry in the United States within a reasonably foreseeable time. The Commission further determines that revocation of the antidumping duty order on industrial nitrocellulose from Yugoslavia would not be likely to lead to continuation or recurrence of material injury to an industry in the United States within a reasonably foreseeable time.

¹ The record is defined in § 207.2(f) of the Commission's rules of practice and procedure (19 CFR 207.2(f)).

² Commissioner Thelma J. Askey dissenting.

³ Commissioner Thelma J. Askey dissenting.

Background

The Commission instituted these reviews on June 1, 1999 (64 FR 29344) and determined on September 3, 1999 that it would conduct full reviews (64 FR 50107, September 15, 1999). Notice of the scheduling of the Commission's reviews and of a public hearing to be held in connection therewith was given by posting copies of the notice in the Office of the Secretary, U.S. International Trade Commission, Washington, DC, and by publishing the notice in the Federal Register on October 25, 1999 (64 FR 57483).⁴ The hearing was held in Washington, DC, on June 8, 2000, and all persons who requested the opportunity were permitted to appear in person or by counsel.

⁴ The Commission subsequently revised its schedule, publishing its notice in the Federal Register on February 7, 2000 (65 FR 5889). The Commission later revised the schedule again, publishing the second revised notice on June 26, 2000 (65 FR 39426).

The Commission transmitted its determinations in these investigations to the Secretary of Commerce on August 24, 2000. The views of the Commission are contained in USITC Publication 3342 (August 2000), entitled Industrial Nitrocellulose from Brazil, China, France, Germany, Japan, Korea, the United Kingdom, and Yugoslavia: Investigations Nos. 731-TA-96 and 439-445 (Review).

Issued: August 24, 2000.
By order of the Commission.
Donna R. Koehnke,
Secretary.

[FR Doc. 00-22195 Filed 8-29-00; 8:45 am]

BILLING CODE 7020-02-P